FEDERAL ELECTION COMMISSION

11 CFR Parts 9007, 9034, 9035, and 9038

[Notice 2000-8]

Public Financing of Presidential Primary and General Election Candidates

AGENCY: Federal Election Commission.

ACTION: Final rule; announcement of effective date.

SUMMARY: On November 15, 1999, the Commission published the text of revised regulations governing publicly financed Presidential campaigns. 64 FR 61777 (Nov. 15, 1999). The revised rules modify the Commission's audit procedures. They also address the “bright line” between primary and general election expenses, and the formation of Vice Presidential committees prior to nomination. The Commission announces that these rules are effective as of April 19, 2000.

EFFECTIVE DATE: April 19, 2000.

FOR FURTHER INFORMATION CONTACT: Ms. Rosemary C. Smith, Assistant General Counsel, 999 E Street, NW, Washington, DC 20463, (202) 694-1650 or toll free (800) 424-9530.

SUPPLEMENTARY INFORMATION: The Commission is announcing the effective date of revised regulations at 11 CFR 9007.1, 9034.4 and 9038.1, and new regulations at 11 CFR 9035.3. The revisions to 11 CFR 9007.1 and 9038.1 replace the Exit Conference Memorandum that is currently provided to audited committees at the exit conference following an audit with a Preliminary Audit Report that will be approved by the Commission before it is provided to the audited committees after the exit conference. Revised 11 CFR 90934.4 clarifies the applicability of the so-called “bright line” rules that govern expenditures made in connection with both the primary and the general election, and revises those portions allocating payroll and overhead costs for the use of campaign offices prior to a candidate's nomination. New 11 CFR 9035.3 addresses when contributions to, and expenditures by, Vice Presidential committees must be aggregated with contributions to, and expenditures by, the primary campaign of that party's eventual Presidential nominee, for purposes of the contribution and expenditure limits for publicly funded Presidential campaigns.

Sections 9009(c) and 9039(c) of Title 26, United States Code, require that any rules or regulations prescribed by the Commission to carry out the provisions of Title 26 of the United States Code be transmitted to the Speaker of the House of Representatives and the President of the Senate thirty legislative days prior to final promulgation. These rules were transmitted to Congress on November 9, 1999. Thirty legislative days expired in the Senate and the House of Representatives on April 3, 2000.

Announcement of Effective Date: New 11 CFR 9035.3 and amended 11 CFR 9007.1, 9034.4 and 9038.1, as published at 64 FR 61777 (Nov. 15, 1999), are effective as of April 19, 2000.

Dated: April 13, 2000.
Darryl R. Wold,
Chairman, Federal Election Commission.

[FR Doc. 00-9732 Filed 4-18-00; 8:45 am]

BILLING CODE 6715-01-U